INTERNATIONAL TRADE COMMISSION

[Investigation No. 731-TA-1013 (Final)]

Saccharin From China

AGENCY: United States International Trade Commission.

ACTION: Revised schedule for the subject investigation.

EFFECTIVE DATE: February 13, 2003.

FOR FURTHER INFORMATION CONTACT: D.J. Na (202-708-4727), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket at http://edis.usitc.gov.

SUPPLEMENTARY INFORMATION: Effective December 27, 2002, the Commission established a schedule for the conduct of the final phase of the subject investigation (68 FR 1860, January 14, 2003). Subsequently, the Department of Commerce extended the date for its final determination in the investigation to May 12 (68 FR 6885, February 11, 2003). The Commission, therefore, is revising its schedule to conform with Commerce's new schedule.

The Commission's new schedule for the investigation is as follows: Requests to appear at the hearing must be filed with the Secretary to the Commission not later than May 8; the prehearing conference will be held at the U.S. International Trade Commission Building at 9:30 a.m. on May 12, 2003; the prehearing staff report will be placed in the nonpublic record on May 1, 2003; the deadline for filing prehearing briefs is May 8, 2003; the hearing will be held at the U.S. International Trade Commission Building at 9:30 a.m. on May 15, 2003; the deadline for filing posthearing briefs is May 22, 2003; the Commission will make its final release of information on June 6, 2003; and final party comments are due on June 10, 2003.

For further information concerning this investigation see the Commission's notice cited above and the Commission's rules of practice and procedure, part 201, subparts A through E (19 CFR part 201), and part 207, subparts A and C (19 CFR part 207).

Authority: This investigation is being conducted under authority of title VII of the Tariff Act of 1930; this notice is published pursuant to § 207.21 of the Commission's rules.

Issued: February 14, 2003.
By order of the Commission.
Marilyn R. Abbott,
Secretary to the Commission.

[FR Doc. 03-4314 Filed 2-24-03; 8:45 am]

BILLING CODE 7020-02-P